DEPARTMENT OF DEFENSE

Department of the Air Force

[Docket ID: USAF-2008-0045]

Privacy Act of 1974; System of Records

AGENCY: Department of the Air Force, DoD.

ACTION: Notice to Add a System of Records.

SUMMARY: The Department of the Air Force is proposing to add a system of records to its inventory of record systems subject to the Privacy Act of 1974 (5 U.S.C. 552a), as amended.

DATES: The changes will be effective on January 12, 2009 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Mr. Kenneth Brodie at (703) 696-7557.

SUPPLEMENTARY INFORMATION: The Department of the Air Force notices for systems of records subject to the Privacy Act of 1974 (5 U.S.C. 552a), as amended, have been published in the Federal Register and are available from the address above.

The proposed systems reports, as required by 5 U.S.C. 552a(r) of the Privacy Act of 1974, as amended, will be submitted on December 4, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 8, 2008.
Morgan E. Frazier,
Alternate OSD Federal Register Liaison Officer, Department of Defense.

F031 AFMC B

System name:

Air Force Information System Records.

System location:

Department of the Air Force, Joint Strike Fighter (JSF) Integrated Test Force, 225 North Wolfe Avenue, Edwards Air Force Base, CA 93524-6035.

Department of the Air Force, Airborne Laser (ABL) Integrated Test Force, 116 East Jones Road, Edwards Air Force Base, CA 93524-8293.

Categories of individuals covered by the system:

Military and civilian personnel, foreign nationals and contractors.

Categories of records in the system:

Information includes name; Social Security Number (SSN); date/state/country of birth; passport number; citizenship information; roster identification number; physical characteristics; home address; phone number; and e-mail address; emergency contact information; training records; equipment accountability records; documentation pertaining to requesting, granting, and terminating access to secure facilities and various special access programs; foreign travel, and badge numbers.

Authority for maintenance of the system:

10 U.S.C. 8013, Secretary of the Air Force; DoD 5200.2-R, DoD Personnel Security Program; AFI 33-129, Web Management and Internet Use; AFI 33-202, Network and Computer Security and E.O. 9397 (SSN).

Purposes:

Automates the administrative/management activities associated with the day-to-day operations of an organization. These include but are not limited to: administering/managing required training, unit calendars, information sharing, personnel listings/rosters, facility work requests and security functions. Information may be used by management for system efficiency, workload calculation, or reporting purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD `Blanket Routine Uses' published at the beginning of the Air Force's compilation of systems of records notices apply to this system.

Policies and practices for storing, retrieving, accessing, retaining, and disposing of records in the system:

Storage:

Paper records in file folders and electronic storage media.

Retrievability:

Individual's name and Social Security Number (SSN), roster identification number and/or passport number.

Safeguards:

Servers are housed in a secure facility at Edwards Air Force Base, California. Information is restricted to supervisors and reviewing officials with the appropriate profiles or roles and by persons responsible for servicing the record system in performance of their official duties. Information is not shared with other organizations. Administrative account access is restricted by an administration account Common Access Card (CAC) which is over and above the individual CAC. Access is limited to Joint Strike Fighter and Airborne Laser personnel.

Retention and disposal:

Data stored digitally within the system is retained until reassignment, separation, or access is no longer required. Backup files are maintained only for system restoration and are not to be used to retrieve individual records. Computer records are destroyed by erasing, deleting or overwriting. Paper records are destroyed by tearing into pieces, shredding, pulping, macerating, or burning. System manager(s) and address:

Department of the Air Force, Joint Strike Force Integrator, 225 North Wolfe Avenue, Edwards Air Force Base, CA 93523-6035.

Airborne Laser Program Manager, 116 East Jones Road, Edwards Air Force Base, CA 93524-8293.

Notification procedure:

Individuals seeking to determine whether this system of records contains information about themselves should address written inquiries to or visit the systems manager at Department of the Air Force, JSF Integrator, 225 North Wolfe Avenue, Edwards Air Force Base, CA 93523-6035.

The request should be signed and include, name and Social Security Number (SSN), passport number or roster identification number and a complete mailing address.

Record access procedures:

Individuals seeking access to records about themselves contained in this system of records should address written inquiries to the systems manager at Department of the Air Force, JSF Integrator, 225 North Wolfe Avenue, Edwards Air Force Base, CA 93523-6035.

The request should be signed and include, name and Social Security Number (SSN), passport number or roster identification number, and a complete mailing address.

Contesting record procedures:

The Air Force rules for accessing records and for contesting contents and appealing initial agency determinations are published in 32 CFR part 806b, Air Force Instruction 33-332, Air Force Privacy Program and may be obtained from the systems manager.

Record source categories:

Information is obtained from individual, individual's supervisor, automated system interfaces, security personnel, or from other source documents.

Exemptions claimed for the system:

None.

[FR Doc. E8-29411 Filed 12-11-08; 8:45 am]

BILLING CODE 5001-06-P